DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels and aircraft placed on the SDN List have been identified as property in which a blocked person has an interest.

DATES: This action was issued on November 20, 2025. See Supplementary Information for relevant dates.

FOR FURTHER INFORMATION CONTACT: OFAC: Associate Director for Global Targeting, 202-622-2420; Assistant Director for Licensing, 202-622-2480; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On November 20, 2025, OFAC determined that the property and interests in property subject to U.S. jurisdiction of the following persons are blocked under the relevant sanctions authorities listed below.

BILLING CODE 4810-AL-P

BILLING CODE 4810-AL-C

Aircraft

1. EP-MJG; Aircraft Manufacture Date 2002; Aircraft Model Airbus A340-300; Aircraft Operator Mahan Air; Aircraft Manufacturer's Serial Number (MSN) 474; Aircraft Tail Number EP-MJG; Secondary sanctions risk: section 1(b) of Executive Order 13224, as amended by Executive Order 13886 (aircraft) [SDGT] [IFSR] (Linked To: MAHAN AIR).

Identified as property in which MAHAN AIR, a person whose property and interests in property are blocked pursuant to E.O. 13224, has an interest.

2. EP-MEB; Aircraft Manufacture Date 1997; Aircraft Model Avro RJ85; Aircraft Operator MAHAN AIR; Aircraft Manufacturer's Serial Number (MSN) E2319; Aircraft Tail Number EP-MEB; Secondary sanctions risk: section 1(b) of Executive Order 13224, as amended by Executive Order 13886 (aircraft) [SDGT] [IFSR] (Linked To: MAHAN AIR).

Identified as property in which MAHAN AIR, a person whose property and interests in property are blocked pursuant to E.O. 13224, has an interest.

3. EP-MEH; Aircraft Manufacture Date 1992; Aircraft Model Fokker 50; Aircraft Operator MAHAN AIR; Aircraft Manufacturer's Serial Number (MSN) 20263; Aircraft Tail Number EP-MEH; Secondary sanctions risk: section 1(b) of Executive Order 13224, as amended by Executive Order 13886 (aircraft) [SDGT] [IFSR] (Linked To: MAHAN AIR).

Identified as property in which MAHAN AIR, a person whose property and interests in property are blocked pursuant to E.O. 13224, has an interest.

4. EP-MJA; Aircraft Manufacture Date 1995; Aircraft Model A340-200; Aircraft Operator MAHAN AIR; Aircraft Manufacturer's Serial Number (MSN) 075; Aircraft Tail Number EP-MJA; Secondary sanctions risk: section 1(b) of Executive Order 13224, as amended by Executive Order 13886 (aircraft) [SDGT] [IFSR] (Linked To: MAHAN AIR).

Identified as property in which MAHAN AIR, a person whose property and interests in property are blocked pursuant to E.O. 13224, has an interest.

5. EP-MJE; Aircraft Manufacture Date 1999; Aircraft Model A340-300; Aircraft Operator MAHAN AIR; Aircraft Manufacturer's Serial Number (MSN) 270; Aircraft Tail Number EP-MJE; Secondary sanctions risk: section 1(b) of Executive Order 13224, as amended by Executive Order 13886 (aircraft) [SDGT] [IFSR] (Linked To: MAHAN AIR).

Identified as property in which MAHAN AIR, a person whose property and interests in property are blocked pursuant to E.O. 13224, has an interest.

6. EP-MJF; Aircraft Manufacture Date 2000; Aircraft Model A340-300; Aircraft Operator MAHAN AIR; Aircraft Manufacturer's Serial Number (MSN) 331; Aircraft Tail Number EP-MJF; Secondary sanctions risk: section 1(b) of Executive Order 13224, as amended by Executive Order 13886 (aircraft) [SDGT] [IFSR] (Linked To: MAHAN AIR).

Identified as property in which MAHAN AIR, a person whose property and interests in property are blocked pursuant to E.O. 13224, has an interest.

7. EP-MMU; Aircraft Manufacture Date 2008; Aircraft Model A340-600; Aircraft Operator MAHAN AIR; Aircraft Manufacturer's Serial Number (MSN) 933; Aircraft Tail Number EP-MMU; Secondary sanctions risk: section 1(b) of Executive Order 13224, as amended by Executive Order 13886 (aircraft) [SDGT] [IFSR] (Linked To: MAHAN AIR).

Identified as property in which MAHAN AIR, a person whose property and interests in property are blocked pursuant to E.O. 13224, has an interest.

Vessels

1. KALLISTA (3E3407) Crude Oil Tanker Panama flag; Secondary sanctions risk: section 1(b) of Executive Order 13224, as amended by Executive Order 13886; Vessel Year of Build 2010; Vessel Registration Identification IMO 9411965; MMSI 352001127 (vessel) [SDGT] (Linked To: ALTOMARE S.A.).

Identified as property in which ALTOMARE S.A., a person whose property and interests in property are blocked pursuant to E.O. 13224, as amended, has an interest.

2. PIONEER SAM (T8A3795) Crude Oil Tanker Palau flag; Vessel Year of Build 2002; Vessel Registration Identification IMO 9232620; MMSI 511100620 (vessel) [IRAN-EO13902] (Linked To: PIONEER TANKERS MARINE INCORPORATED).

Identified as property in which PIONEER TANKERS MARINE INCORPORATED, a person whose property and interests in property are blocked pursuant to E.O. 13902, has an interest.

3. GAS ATHENA (3FNK5) LPG Tanker Panama flag; Vessel Year of Build 2003; Vessel Registration Identification IMO 9267950; MMSI 374041000 (vessel) [IRAN-EO13902] (Linked To: CORFU MARITIME AND TRADING S.A.).

Identified as property in which CORFU MARITIME AND TRADING S.A., a person whose property and interests in property are blocked pursuant to E.O. 13902, has an interest.

4. KAISA I (3EJO4) LPG Tanker Panama flag; Vessel Year of Build 1992; Vessel Registration Identification IMO 9038763; MMSI 374043000 (vessel) [IRAN-EO13902] (Linked To: TILOS MARITIME AND TRADING S.A.).

Identified as property in which TILOS MARITIME AND TRADING S.A., a person whose property and interests in property are blocked pursuant to E.O. 13902, has an interest.

5. NEXO (C5J316) LPG Tanker Gambia flag; Vessel Year of Build 1993; Vessel Registration Identification IMO 9014456; MMSI 629009304 (vessel) [IRAN-EO13902] (Linked To: SERIFOS MARITIME AND TRADING S.A.).

Identified as property in which SERIFOS MARITIME AND TRADING S.A., a person whose property and interests in property are blocked pursuant to E.O. 13902, has an interest.

6. TUSITALA (a.k.a. TOWER RISE) (C5J416) LPG Tanker Gambia flag; Vessel Year of Build 1992; Vessel Registration Identification IMO 8912546; MMSI 629009404 (vessel) [IRAN-EO13902] (Linked To: THASOS MARITIME AND TRADING S.A.).

Identified as property in which THASOS MARITIME AND TRADING S.A., a person whose property and interests in property are blocked pursuant to E.O. 13902, has an interest.

(Authorities: E.O. 13224, as amended, and E.O. 13902.)

Bradley T. Smith,
Director, Office of Foreign Assets Control.

[FR Doc. 2025-20952 Filed 11-24-25; 8:45 am]

BILLING CODE 4810-AL-P